DEPARTMENT OF THE INTERIOR

Fish and Wildlife Service

50 CFR Part 17

RIN 1018-AI24

Endangered and Threatened Wildlife and Plants; Designations of Critical Habitat for Plant Species From the Island of Oahu, HI

AGENCY: Fish and Wildlife Service, Interior.

ACTION: Proposed rule; extension of comment period and notice of availability of draft economic analysis.

SUMMARY: We, the U.S. Fish and Wildlife Service (Service), announce the availability of the draft economic analysis for the proposed designations of critical habitat for plant species from the island of Oahu, Hawaii. The comment period for the proposed critical habitat designations originally closed on July 29, 2002. On August 26, 2002, we reopened the comment period and provided notice that the comment period would close on September 30, 2002. On October 10, 2002, we announced a public hearing and reopened the comment period to allow all interested parties to submit oral or written comments on the proposal until November 30, 2002. We are now providing notice of an extension of the comment period to allow peer reviewers and all interested parties to comment simultaneously on the proposed rule and the associated draft economic analysis. Over a 10-year time period, the total section 7-related direct costs associated with the plants species listings and critical habitat are estimated at $1.1 million to $2.3 million. Indirect costs have the potential to be as much as $100 million, although the likelihood of this potential being reached is unclear. Comments previously submitted need not be resubmitted as they will be incorporated into the public record as part of this extended comment period and will be fully considered in preparation of the final rule.

DATES: We will accept public comments until January 27, 2003.

ADDRESSES: Send your written comments and information to Field Supervisor, U.S. Fish and Wildlife Service, Pacific Islands Office, 300 Ala Moana Blvd., PO Box 50088, Honolulu, HI 96850-0001; or e-mail your comments to FW1PIE_Oahu_crithab@r1.fws.gov. For further instructions on commenting, refer to Public Comments Solicited section of this notice.

To obtain a copy of the draft economic analysis, send a written request to the address listed above, call 808/541-3441, or visit the following Internet site: http://pacificislands.fws.gov.

FOR FURTHER INFORMATION CONTACT: Paul Henson, Field Supervisor, Pacific Islands Office, at the above address (telephone: 808/541-3441; facsimile: 808/541-3470).

SUPPLEMENTARY INFORMATION:

Background

Between 1991 and 1996, a total of 101 species historically found on Oahu were listed as endangered or threatened species under the Endangered Species Act of 1973, as amended (the Act)(16 U.S.C. 1531 et seq.). On May 28, 2002, we published in the Federal Register (67 FR 37108) a proposed rule to propose critical habitat for 99 of the 101 plant species historically found on Oahu. Some of these species may also occur on other Hawaiian islands.

Previously, we proposed that designation of critical habitat was prudent for 45 (Adenophorus periens, Alectryon macrococcus, Bonamia menziesii, Cenchrus agrimonioides, Centaurium sebaeoides, Colubrina oppositifolia, Ctenitis squamigera, Cyanea grimesiana ssp. grimesiana, Cyperus trachysanthos, Diellia erecta, Diplazium molokaiense, Eugenia koolauensis, Euphorbia haeleeleana, Flueggea neowawraea, Gouania meyenii, Gouania vitifolia, Hedyotis coriacea, Hesperomannia arborescens, Hesperomannia arbuscula, Hibiscus brackenridgei, Isodendrion laurifolium, Isodendrion longifolium, Isodendrion pyrifolium, Lobelia niihauensis, Lysimachia filifolia, Mariscus pennatiformis, Marsilea villosa, Melicope pallida, Nototrichium humile, Peucedanum sandwicense, Phlegmariurus nutans, Phyllostegia mollis, Phyllostegia parviflora, Plantago princeps, Platanthera holochila, Pteris lidgatei, Sanicula purpurea, Schiedea hookeri, Schiedea nuttallii, Sesbania tomentosa, Silene lanceolata, Solanum sandwicense, Spermolepis hawaiiensis, Tetramolopium lepidotum ssp. lepidotum, and Vigna o-wahuensis) of the 101 species reported from the island of Oahu. No change is made to the 45 proposed prudency determinations in the May 28, 2002, proposed critical habitat rule for plants from Oahu. In addition, in the May 28, 2002, proposed rule, we proposed that designation of critical habitat was not prudent for Pritchardia kaalae because it would likely increase the threats from vandalism or collection of this species on Oahu. In the same rule, we proposed that designation of critical habitat was not prudent for Cyrtandra crenata because it had not been seen recently in the wild and no viable genetic material of this species is known to exist. We also proposed that designation of critical habitat is prudent for 54 species (Abutilon sandwicense, Alsinidendron obovatum, Alsinidendron trinerve, Chamaesyce celastroides var. kaenana, Chamaesyce deppeana, Chamaesyce herbstii, Chamaesyce kuwaleana, Chamaesyce rockii, Cyanea acuminata, Cyanea crispa, Cyanea grimesiana ssp. obatae, Cyanea humboltiana, Cyanea koolauensis, Cyanea longiflora, Cyanea pinnatifida, Cyanea st.-johnii, Cyanea superba, Cyanea truncata, Cyrtandra dentata, Cyrtandra polyantha, Cyrtandra subumbellata, Cyrtandra viridiflora, Delissea subcordata, Diellia falcata, Diellia unisora, Dubautia herbstobatae, Eragrostis fosbergii, Gardenia mannii, Hedyotis degeneri, Hedyotis parvula, Labordia cyrtandrae, Lepidium arbuscula, Lipochaeta lobata var. leptophylla, Lipochaeta tenuifolia, Lobelia gaudichaudii ssp. koolauensis, Lobelia monostachya, Lobelia oahuensis, Melicope lydgatei, Melicope saint-johnii, Myrsine juddii, Neraudia angulata, Phyllostegia hirsuta, Phyllostegia kaalaensis, Sanicula mariversa, Schiedea kaalae, Schiedea kealiae, Silene perlmanii, Stenogyne kanehoana, Tetramolopium filiforme, Tetraplasandra gymnocarpa, Trematalobelia singularis, Urera kaalae, Viola chamissoniana ssp. chamissoniana, and Viola oahuensis) for which prudency determinations have not been made previously.

We further proposed designation of critical habitat for 99 plant species (Abutilon sandwicense, Adenophorus periens, Alectryon macrococcus, Alsinidendron obovatum, Alsinidendron trinerve, Bonamia menziesii, Cenchrus agrimonioides, Centaurium sebaeoides, Chamaesyce celastroides var. kaenana, Chamaesyce deppeana, Chamaesyce herbstii, Chamaesyce kuwaleana, Chamaesyce rockii, Colubrina oppositifolia, Ctenitis squamigera, Cyanea acuminata, Cyanea crispa, Cyanea grimesiana ssp. grimesiana, Cyanea grimesiana ssp. obatae, Cyanea humboltiana, Cyanea koolauensis, Cyanea longiflora, Cyanea pinnatifida, Cyanea st.-johnii, Cyanea superba, Cyanea truncata, Cyperus trachysanthos, Cyrtandra dentata, Cyrtandra polyantha, Cyrtandra subumbellata, Cyrtandra viridiflora, Delissea subcordata, Diellia erecta, Diellia falcata, Diellia unisora, Diplazium molokaiense, Dubautia herbstobatae, Eragrostis fosbergii, Eugenia koolauensis, Euphorbia haeleeleana, Flueggea neowawraea, Gardenia mannii, Gouania meyenii, Gouania vitifolia, Hedyotis coriacea, Hedyotis degeneri, Hedyotis parvula, Hesperomannia arborescens, Hesperomannia arbuscula, Hibiscus brackenridgei, Isodendrion laurifolium, Isodendrion longifolium, Isodendrion pyrifolium, Labordia cyrtandrae, Lepidium arbuscula, Lipochaeta lobata var. leptophylla, Lipochaeta tenuifolia, Lobelia gaudichaudii ssp. koolauensis, Lobelia monostachya, Lobelia niihauensis, Lobelia oahuensis, Lysimachia filifolia, Mariscus pennatiformis, Marsilea villosa, Melicope pallida, Melicope saint-johnii, Myrsine juddii, Neraudia angulata, Nototrichium humile, Pelea lydgatei, Peucedanum sandwicense, Phlegmariurus nutans, Phyllostegia hirsuta, Phyllostegia kaalaensis, Phyllostegia mollis, Phyllostegia parviflora, Plantago princeps, Platanthera holochila, Pteris lidgatei, Sanicula mariversa, Sanicula purpurea, Schiedea hookeri, Schiedea kaalae, Schiedea kealiae, Schiedea nuttallii, Sesbania tomentosa, Silene lanceolata, Silene perlmanii, Solanum sandwicense, Spermolepis hawaiiensis, Stenogyne kanehoana, Tetramolopium filiforme, Tetramolopium lepidotum ssp. lepidotum, Tetraplasandra gymnocarpa, Trematalobelia singularis, Urera kaalae, Vigna o-wahuensis, Viola chamissoniana ssp. chamissoniana, and Viola oahuensis). We did not propose critical habitat for Pritchardia munroi and Cyrtandra crenata for the reasons given above.

We proposed critical habitat designations for 99 species within 25 critical habitat units totaling approximately 45,067 hectares (111,364 acres) on the island of Oahu.

Critical habitat receives protection from destruction or adverse modification through required consultation under section 7 of the Act (16 U.S.C. 1531 et seq.) with regard to actions carried out, funded, or authorized by a Federal agency. Section 4(b)(2) of the Act requires that the Secretary designate or revise critical habitat based upon the best scientific and commercial data available, and after taking into consideration the economic impact of specifying any particular area as critical habitat. We have prepared a draft economic analysis of the proposed critical habitat designation. The draft economic analysis is available on the Internet and from the mailing address listed below in the Public Comments Solicited section.

The public comment period for the May 28, 2002, proposal originally closed on July 29, 2002. On August 26, 2002, we published in the Federal Register (67 FR 54766) a notice reopening the comment period for the proposed designations and non-designations of critical habitat for plant species on the island of Oahu, as well as for the proposed designations and non-designations of critical habitat for plant species on the islands of Kauai, Niihau, Molokai, Maui, Kahoolawe, and Hawaii, and we announced that the comment period would close on September 30, 2002. On October 10, 2002, we announced a public hearing and reopened the comment period to allow all interested parties to submit oral or written comments on the proposal until November 30, 2002 (67 FR 63066). We are now announcing the availability of the draft economic analysis and the extension of the comment period for the proposed designations and non-designations of critical habitat for plant species on the island of Oahu. We will accept public comments on the proposal and the associated draft economic analysis for plants species from the island of Oahu until the date specified above in DATES. The extension of the comment period gives all interested parties the opportunity to comment on the proposal and the associated draft economic analysis for plant species from the island of Oahu. Comments already submitted on the proposed designations and non-designations of critical habitat for plant species from the island of Oahu need not be resubmitted as they will be fully considered in the final determinations.

Public Comments Solicited

We specifically request comments on the following matters addressed in the “Indirect Costs” section of the draft economic analysis:

(1) The likelihood of adverse impacts on hunting resulting from changes in game management, and the likelihood of such changes in game management;

(2) The likelihood of adverse impacts on military readiness and military communications;

(3) The likelihood of mandated conservation management on private land by the State of Hawaii or the courts;

(4) The likelihood of redistricting of land to Conservation District status;

(5) The likelihood of reduced property values; and

(6) The likelihood of increased costs, delays and denials in permit applications by Federal, State and county authorities, all as a result of the proposed critical habitat designations.

We seek comments on the likelihood of these impacts, including the reasons they might or might not occur, and the likely direct and indirect costs or other effects if the impacts do occur, including the basis for the costs or other effects. To the extent that those submitting comments have specific information related to their comments, we encourage its inclusion.

If you wish to provide written comments, you may submit your comments and materials concerning this proposal by any of several methods:

(1) You may submit written comments and information to the Field Supervisor, U.S. Fish and Wildlife Service, Pacific Islands Office, 300 Ala Moana Blvd., PO Box 50088, Honolulu, HI 96850-0001.

(2) You may send comments by electronic mail (e-mail) to: FW1PIE_Oahu_crithab@r1.fws.gov. If you submit comments by e-mail, please submit them as an ASCII file and avoid the use of special characters and any form of encryption. Please also include “Attn: RIN 1018-AI24” and your name and return address in your e-mail message. If you do not receive a confirmation from the system that we have received your e-mail message, contact us directly by calling our Honolulu Fish and Wildlife Office at telephone number 808/541-3441.

(3) You may hand-deliver comments to our Honolulu Fish and Wildlife Office at the address given above under (1).

Comments and materials received, as well as supporting documentation used in preparation of the proposal to designate critical habitat, will be available for inspection, by appointment, during normal business hours at the address under (1) above.

Copies of the draft economic analysis are available on the Internet at http://pacificislands.fws.gov or by request from the Field Supervisor at the address and phone number listed in ADDRESSES.

Author(s)

The primary author of this document is Michelle Mansker (See ADDRESSES section).

Authority

The authority for this action is the Endangered Species Act of 1973 (16 U.S.C. 1531 et seq.).

Dated: December 16, 2002.
Craig Manson,
Assistant Secretary for Fish and Wildlife and Parks.

[FR Doc. 02-32522 Filed 12-24-02; 8:45 am]

BILLING CODE 4310-55-P